DEPARTMENT OF VETERANS AFFAIRS

Enhanced-Use Lease (EUL) of U.S. Department of Veterans Affairs (VA) Real Property for the Development of Permanent Supportive Housing at the Carl Vinson VA Medical Center (VAMC) Campus in Dublin, Georgia

AGENCY: U.S. Department of Veterans Affairs.

ACTION: Notice of intent to enter into an EUL.

SUMMARY: The purpose of this Federal Register notice is to provide the public with notice that the Secretary of Veterans Affairs intends to enter into an EUL of Buildings 34 and 35 on approximately 4.7 acres of underutilized land on the campus of the Carl Vinson VAMC.

FOR FURTHER INFORMATION CONTACT: C. Brett Simms, Executive Director, Office of Asset Enterprise Management, Office of Management, 810 Vermont Avenue NW, Washington, DC 20420, 202-632-7092. This is not a toll-free number.

SUPPLEMENTARY INFORMATION: Pursuant to 38 U.S.C. 8161-8169, the Secretary of Veterans Affairs is authorized to enter into an EUL for the provision of supportive housing for a term of up to 75 years, if the lease is not inconsistent with and will not adversely affect the mission of VA. Consistent with this authority, the Secretary intends to enter into an EUL for the purpose of outleasing Buildings 34 and 35 on approximately 4.7 acres of underutilized land on the campus of the Carl Vinson VAMC, to develop approximately 50 units of permanent supportive housing for Veterans and their families. The competitively selected EUL lessee/developer, Dublin Veterans Residences Limited Partnership, will finance, design, develop, rehabilitate, construct, manage, maintain and operate housing for eligible homeless Veterans or Veterans at risk of homelessness on a priority placement basis. Additionally, the lessee/developer will be required to provide supportive services that guide Veteran residents towards long-term independence and self-sufficiency.

Signing Authority: Denis McDonough, Secretary of Veterans Affairs, approved this document on June 23, 2022, and authorized the undersigned to sign and submit the document to the Office of the Federal Register for publication electronically as an official document of the Department of Veterans Affairs.

Jeffrey M. Martin,
Assistant Director, Office of Regulation Policy & Management, Office of General Counsel, Department of Veterans Affairs.

[FR Doc. 2022-14560 Filed 7-7-22; 8:45 am]

BILLING CODE 8320-01-P